DEPARTMENT OF TRANSPORTATION

Federal Aviation Administration

14 CFR Part 39

[Docket No. FAA-2008-0150; Directorate Identifier 2007-NM-325-AD]

RIN 2120-AA64

Airworthiness Directives; Boeing Model 767-200, -300, and -400ER Series Airplanes

AGENCY: Federal Aviation Administration (FAA), Department of Transportation (DOT).

ACTION: Supplemental notice of proposed rulemaking (NPRM); reopening of comment period.

SUMMARY: The FAA is revising an earlier NPRM for an airworthiness directive (AD) that applies to certain Boeing Model 767 series airplanes. The original NPRM would have superseded an existing AD that currently requires a one-time inspection for missing, damaged, or incorrectly installed parts in the separation link assembly on the deployment bar of the emergency escape system on the entry or service door, and installation of new parts if necessary. The original NPRM proposed to require replacing the separation link assembly on the applicable entry and service doors with an improved separation link assembly, and related investigative and corrective actions if necessary. The original NPRM also removed certain airplanes from the applicability. The original NPRM resulted from reports that entry and service doors did not open fully during deployment of emergency escape slides, and additional reports of missing snap rings. This action revises the original NPRM by adding a new inspection for discrepancies of the unloaded spring dimensions in the separation link assembly, and corrective actions if necessary. We are proposing this supplemental NPRM to prevent failure of an entry or service door to open fully in the event of an emergency evacuation, which could impede exit from the airplane. This condition could result in injury to passengers or crewmembers.

DATES: We must receive comments on this supplemental NPRM by October 20, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Keith Ladderud, Aerospace Engineer, Cabin Safety and Environmental Systems Branch, ANM-150S, FAA, Seattle Aircraft Certification Office, 1601 Lind Avenue, SW., Renton, Washington 98057-3356; telephone (425) 917-6435; fax (425) 917-6590.

SUPPLEMENTARY INFORMATION:

Comments Invited

We invite you to send any written relevant data, views, or arguments about this proposed AD. Send your comments to an address listed under the ADDRESSES section. Include “Docket No. FAA-2008-0150; Directorate Identifier 2007-NM-325-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend part 39 of the Federal Aviation Regulations (14 CFR part 39) with a notice of proposed rulemaking (NPRM) for an AD (the “original NPRM”) to supersede AD 2001-26-19, amendment 39-12585 (67 FR 265, January 3, 2002). The original NPRM applied to certain Boeing Model 767 series airplanes. The original NPRM was published in the Federal Register on February 11, 2008 (73 FR 7690). The original NPRM proposed to require replacing the separation link assembly on the applicable entry and service doors with an improved separation link assembly, and related investigative and corrective actions if necessary.

Actions Since Issuance of Original NPRM

Since we issued the original NPRM, Boeing has issued Boeing Special Attention Service Bulletin 767-25-0428, Revision 1, dated May 8, 2008 (we referred to the original service bulletin as the appropriate source of information for accomplishing the actions). Revision 1 of the service bulletin adds procedures for inspecting unloaded spring dimensions in the separation link assembly for discrepancies (any nicks or scrapes and subsequent breakage or other permanent deformation such as bent tangs; out of tolerance cap screw) using the procedures specified in the component maintenance manual, and replacing any discrepant spring with a new spring. The service bulletin also adds new torque values for the cap screw. Accomplishing the actions specified in the service information is intended to adequately address the unsafe condition.

Comments

We have considered the following comments on the original NPRM.

Request for Changes to the Preamble of the Original NPRM

Boeing provided the following comments to the original NPRM:

• Boeing asks that the sentence “This proposed AD would also remove certain airplanes from the applicability,” be removed from the SUMMARY section of the original NPRM. Boeing states that it is unclear where or how certain airplanes have been removed from the applicability since the initial release of the service bulletin.

• Boeing asks that the sentence “We have also removed Model 767-300F airplanes * * *” be removed from the “Actions Since Existing AD Was Issued” section of the original NPRM. Boeing states that the separation links are not part of the Model 767 Freighter; therefore, freighters are not listed in the referenced service bulletin. Boeing adds that they should not be listed in the AD in the first place and should be removed.

• Boeing asks that the word “existing” be removed from the sentence “Therefore, we have determined that the existing separation link assembly must be secured with a nut and washer * * *” That sentence is also in the “Actions Since Existing AD Was Issued” section of the original NPRM. Boeing states that the nut and washer must be used with a new separation link assembly.

• Boeing asks that the second through the fifth sentences of the “Relevant Service Information” section be removed. Boeing states that the objective of the requested action in the service bulletin is to bring the condition of the deployment bar assembly as near to the “just manufactured” condition as possible. Boeing notes that the requested action is a reminder to perform normal, standard maintenance practices and is not related to the root cause of the missing snap rings.

We partially agree with the Boeing comments.

We do not agree to change the SUMMARY section to remove the language which specified the subject airplanes were removed. That language was specified in the NPRM because Model 767-300F airplanes were included in the applicability of AD 2001-26-19, but would not be included in the applicability of this supplemental NPRM.

We acknowledge and agree that Boeing's suggested changes to the other sections would further clarify the information specified in the original NRPM. However, the other sections of the original NRPM do not reappear in the supplemental NPRM.

We have made no change to the supplemental NPRM in this regard.

FAA's Determination and Proposed Requirements of the Supplemental NPRM

The changes discussed under “Actions Since Issuance of Original NPRM” expand the scope of the original NPRM; therefore, we have determined that it is necessary to reopen the comment period to provide additional opportunity for public comment on this supplemental NPRM.

Costs of Compliance

There are about 1,225 airplanes of the affected design in the worldwide fleet. This proposed AD would affect about 355 airplanes of U.S. registry. The new proposed actions would take up to about 6 work hours per airplane, at an average labor rate of $80 per work hour. Required parts would cost up to about $10,671 per airplane. Based on these figures, the estimated cost of the new actions specified in this proposed AD for U.S. operators is $3,958,605, or $11,151 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12585 (67 FR 265, January 3, 2002) and adding the following new airworthiness directive (AD):

Boeing: Docket No. FAA-2008-0150; Directorate Identifier 2007-NM-325-AD.

Comments Due Date

(a) The FAA must receive comments on this AD action by October 20, 2008.

Affected ADs

(b) This AD supersedes AD 2001-26-19.

Applicability

(c) This AD applies to Boeing Model 767-200, -300, and -400ER series airplanes, certificated in any category, as identified in Boeing Special Attention Service Bulletin 767-25-0428, dated August 23, 2007.

Unsafe Condition

(d) This AD results from reports that entry and service doors did not open fully during deployment of emergency escape slides, and additional reports of missing snap rings. We are issuing this AD to prevent failure of an entry or service door to open fully in the event of an emergency evacuation, which could impede exit from the airplane. This condition could result in injury to passengers or crewmembers.

Compliance

(e) You are responsible for having the actions required by this AD performed within the compliance times specified, unless the actions have already been done.

Replacement

(f) Within 48 months after the effective date of this AD, replace the separation link assembly on the deployment bar of the emergency escape system on all the applicable entry and service doors with an improved separation link assembly, and do all the applicable related investigative and corrective actions before further flight, by accomplishing all of the applicable actions specified in the Accomplishment Instructions of Boeing Special Attention Service Bulletin 767-25-0428, dated August 23, 2007, or Revision 1, dated May 8, 2008. After the effective date of this AD only Revision 1 of the service bulletin may be used.

Alternative Methods of Compliance (AMOCs)

(g)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on September 11, 2008.
Michael Kaszycki,
Acting Manager, Transport Airplane Directorate, Aircraft Certification Service.

[FR Doc. E8-22220 Filed 9-22-08; 8:45 am]

BILLING CODE 4910-13-P